OFFICE OF MANAGEMENT AND BUDGET

Public Availability of Fiscal Year (FY) 2003 Agency Inventories Under the Federal Activities Inventory Reform Act of 1998 (Public Law 105-270) (“FAIR Act”)

AGENCY: Office of Management and Budget; Executive Office of the President.

ACTION: Notice of public availability of agency inventory of activities that are not inherently governmental and of activities that are inherently governmental.

SUMMARY: In accordance with the FAIR Act, agency inventories of activities that are not inherently governmental are now available to the public from the agencies listed below for FY 2003. The FAIR Act requires that OMB publish each fiscal year an announcement of public availability of agency inventories of activities that are not inherently governmental. After review and consultation with OMB, agencies are required to make their inventories available to the public. Agencies have also included activities that are inherently governmental. This is the third release of the FAIR Act inventories for FY 2003. Interested parties who disagree with the agency's initial judgment can challenge the inclusion or the omission of an activity on the list of activities that are not inherently governmental and, if not satisfied with this review, may demand a higher agency review/appeal.

The Office of Federal Procurement Policy has made available a FAIR Act User's Guide through its Internet site: http://www.whitehouse.gov/OMB/procurement/fair-index.html. This User's Guide will help interested parties review FY 2003 FAIR Act inventories and gain access to agency inventories through agency web-site addresses.

Joshua B. Bolten,
Director.

Third Fair Act Release 2003
Advisory Council on Historic Preservation | Mr. Ralston Cox, (202) 606-8528 www.achp.gov.
African Development Foundation | Ms. Vicki Gentry, (202) 673-3916 www.adf.gov.
Appalachian Regional Commission | Mr. Guy Land, (202) 884-7674 www.arc.gov.
Barry Goldwater Scholarship Education Foundation | Mr. Gerald Smith, (703) 756-6012 www.act.org/goldwater.
Defense Nuclear Facilities Safety Board | Mr. Kenneth Pusateri, (202) 694-7000 www.dnfsb.gov.
Department of Agriculture | Ms. Ava Lee, (202) 720-1179 www.usda.gov.
Department of Commerce | Mr. Mike Sade, (202) 482-4248 www.doc.gov.
Department of Education | Mr. Glenn Perry, (202) 708-8488 www.ed.gov.
Department of Justice | Mr. Larry Silvas, (202) 616-3754 www.usdoj.gov.
Department of the Treasury (excluding IRS) | Mr. James Sullivan, (202) 622-9395 www.treas.gov.
Department of Veterans Affairs | Mr. Gary Steinberg, (202) 273-5068 www.va.gov.
Federal Communications Commission | Mr. Mark Reger, (202) 418-1924 or Mr. Kent Baum (202) 418-0137 www.fcc.gov.
Federal Mediation and Conciliation Service | Ms. Karen Kline, (202) 606-5488 www.fmcs.gov.
Federal Trade Commission | Ms. Darlene Cossette, (202) 326-3255 www.ftc.gov.
Harry S. Truman Scholarship Foundation | Ms. Tara Kneller, (202) 395-4831 www.truman.gov.
Institute of Museum and Library Services | Ms. Teresa LaHaie, (202) 606-8637 www.imls.gov.
Inter-American Foundation | Mr. David Valenzuela, (703) 306-4359 www.iaf.gov.
Japan-U.S. Friendship Commission | Mr. Eric Gangloff, (202) 418-9800 www.jusfc.gov.
Marine Mammal Commission | Mr. David Cottingham, (301) 504-0087 www.mmc.gov.
National Archives and Records Administration | Ms. Lori Lisowski, (301) 837-1850 www.nara.gov.
National Archives and Records Administration (OIG) | Mr. James Springs, (301) 837-3018 http://www.archives.gov/about_us/office_of_the_inspector_general/index.html.
National Capital Planning Commission | Ms. Connie Harshaw, (202) 482-7235 www.ncpc.gov.
National Commission on Libraries and Information Sciences | Ms. Madeleine McCain, (202) 606-9200 www.nclis.gov.
National Endowment for the Arts | Ms. Martha Jones, (202) 682-5621 www.arts.endow.gov.
National Science Foundation | Mr. Joseph Burt, (703) 292-5034 www.nsf.gov.
Nuclear Regulatory Commission | Ms. Kathryn Greene, (301) 415-7305 www.nrc.gov.
Nuclear Regulatory Commission (OIG) | Mr. David Lee, (301) 415-5930 www.nrc.gov/insp-gen.html.
Nuclear Waste Technical Review Board | Ms. Joyce Dory, (703) 235-4473 www.nwtrb.gov.
Office of Government Ethics | Mr. Sean Donohue, (202) 208-8000 www.usoge.gov.
Office of Science and Technology Policy | Ms. Ann Mazur, (202) 456-6001 www.ostp.gov.
Securities and Exchange Commission | Ms. Jayne Seidman, (202) 942-4000 www.sec.gov.
Social Security Administration | Mr. Jaime Fisher, (410) 965-7401 www.ssa.gov.
U.S. Agency for International Development | Ms. Deborah Lewis, (202) 712-0936 www.usaid.gov.
U.S. Agency for International Development (OIG) | Mr. Michael Carroll, (202) 712-0135 www.usaid.gov/oig/.
U.S. Commission on Civil Rights | Ms. Tina Louise Martin, (202) 376-8364 www.usccr.gov.
U.S. Patent and Trademark Office | Mr. Dan Haigler, (703) 305-8161 www.uspto.gov.

[FR Doc. 04-11962 Filed 5-26-04; 8:45 am]

BILLING CODE 3110-01-P